DEPARTMENT OF COMMERCE

Foreign-Trade Zones Board

[B-48-2012]

Foreign-Trade Zone 241—Fort Lauderdale, FL, Application for Reorganization/Expansion Under Alternative Site Framework

An application has been submitted to the Foreign-Trade Zones (FTZ) Board (the Board) by the City of Fort Lauderdale, grantee of FTZ 241, requesting authority to reorganize and expand the zone under the alternative site framework (ASF) adopted by the Board (15 CFR Sec. 400.2(c)). The ASF is an option for grantees for the establishment or reorganization of general-purpose zones and can permit significantly greater flexibility in the designation of new subzones or “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on June 27, 2012.

FTZ 241 was approved by the Board on April 6, 2000 (Board Order 1081, 65 FR 20948, 04/19/2000). The current zone project includes the following sites: Site 1 (915 acres)—Fort Lauderdale Executive Airport complex, Commercial Boulevard, Fort Lauderdale; Site 2 (11 acres)—CenterPort Industrial Park, NW 8th Avenue, Fort Lauderdale; Site 3 (278 acres)—Bergeron Park of Commerce & Industry, 19612 SW 69th Place, Fort Lauderdale; Site 4 (8 acres)—Meridian Business Park, 3335 Enterprise Avenue, Weston; and, Site 5 (7 acres)—Horst Dorner, 2900 SW. 42nd Street, Fort Lauderdale.

The grantee's proposed service area under the ASF would be portions of Broward County, as described in the application. If approved, the grantee would be able to serve sites throughout the service area based on companies' needs for FTZ designation. The proposed service area is adjacent to the Port Everglades Customs and Border Protection port of entry.

The applicant is requesting authority to reorganize and expand its existing zone project under the ASF as follows: Modify Site 1 by removing 68 acres due to changed circumstances (new acreage—847 acres); expand Site 2 to include an additional 9 acres (new acreage—20 acres); remove Site 3 due to changed circumstances; and, expand Site 4 to include an additional 36 acres (new acreage—44 acres). Sites 1, 2 and 4 would become “magnet” sites and Site 5 would become a “usage-driven” site. The ASF allows for the possible exemption of one magnet site from the “sunset” time limits that generally apply to sites under the ASF, and the applicant proposes that Site 1 be so exempted.

In accordance with the Board's regulations, Camille Evans of the FTZ Staff is designated examiner to evaluate and analyze the facts and information presented in the application and case record and to report findings and recommendations to the Board.

Public comment is invited from interested parties. Submissions shall be addressed to the Board's Executive Secretary at the address below. The closing period for their receipt is September 4, 2012. Rebuttal comments in response to material submitted during the foregoing period may be submitted during the subsequent 15-day period to September 17, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: June 27, 2012.
Andrew McGilvray,
Executive Secretary.

[FR Doc. 2012-16344 Filed 7-2-12; 8:45 am]

BILLING CODE P